DEPARTMENT OF COMMERCE

International Trade Administration

[A-588-817]

Continuation of Antidumping Duty Order: Electroluminescent Flat Panel Displays and Display Glass From Japan

AGENCY: Import Administration, International Trade Administration, Department of Commerce.

ACTION: Notice of Continuation of Antidumping Duty Order: Electroluminescent Flat Panel Displays and Display Glass from Japan.

SUMMARY: On August 2, 1999, the Department of Commerce (“the Department”), pursuant to sections 751(c) and 752 of the Tariff Act of 1930, as amended (“the Act”), determined that revocation of the antidumping duty order on electroluminescent flat panel displays and display glass (“EL FPD”) from Japan is likely to lead to continuation or recurrence of dumping (64 FR 41915). On March 30, 2000, the International Trade Commission (“the Commission”), pursuant to section 751(c) of the Act, determined that revocation of the antidumping duty order on EL FPD from Japan would be likely to lead to continuation or recurrence of material injury to an industry in the United States within a reasonably foreseeable time (65 FR 16962). Therefore, pursuant to 19 CFR 351.218(f)(4), the Department is publishing notice of the continuation of the antidumping duty order on EL FPD from Japan.

EFFECTIVE DATE: April 11, 2000.

FOR FURTHER INFORMATION CONTACT: Martha V. Douthit or Carole A. Showers, Office of Policy for Import Administration, International Trade Administration, U.S. Department of Commerce, 14th Street and Constitution Ave., NW, Washington, DC 20230; telephone: (202) 482-5050 or (202) 482-3217, respectively.

SUPPLEMENTARY INFORMATION:

Background

On August 2, 1999, the Department initiated, and the Commission instituted, a sunset review (64 FR 41915 and 64 FR 41951, respectively) of the antidumping duty order on electroluminescent flat panel displays and display glass from Japan pursuant to section 751(c) of the Act. As a result of its review, the Department found that revocation of the antidumping duty order would likely lead to continuation or recurrence of dumping and notified the Commission of the magnitude of the margin likely to prevail were the order to be revoked (see Electroluminescent Flat Panel Displays and Display Glass From Japan; Final Results of Antidumping Duty Sunset Review, 65 FR 11979 (March 7, 2000)).

On March 30, 2000, the Commission determined, pursuant to section 751(c) of the Act, that revocation of the antidumping duty order on electroluminescent flat panel displays and display glass from Japan would be likely to lead to continuation or recurrence of material injury to an industry in the United States within a reasonably foreseeable time (see Electroluminescent Flat Panel Displays From Japan, 65 FR 16962 (March 30, 2000) and USITC Publication 3285, Investigation No. 731-TA-469 (Review) (March 2000)).

Scope

The product covered by this antidumping duty order covers EL FPDs from Japan. EL FPDs are large area, matrix addressed displays, no greater than four inches in depth, with a pixel count of 120,000 or greater, whether complete or incomplete, assembled or unassembled. EL FPDs incorporate a matrix of electrodes that, when activated, apply an electrical current to a solid compound of electroluminescent material (e.g., zinc sulfide) causing it to emit light. Included are monochromatic, limited color, and full color displays used to display text, graphics, and video. EL FPDs, whether or not integrated with additional components, exclusively dedicated to and designed for use in EL FPDs, is defined as processed glass substrates that incorporate patterned row, column, or both types of electrodes and, also, typically incorporate a material that reacts to a change in voltage (e.g., phosphor) and contact pads for interconnecting drive electronics.

All types of FPDs are currently classifiable under subheadings 8543, 8803, 9013, 9014, 9017.90.00, 9018, 9022, 9026, 9027, 9030, 9031, 8471.92.30, 8471.92.40, 8473.10.00, 8473.21.00, 8473.30.40, 8442.40.00, 8466, 8517.90.00, 8528.10.80, 8529.90.00, 8531.20.00, 8531.90.00, and 8541 of the Harmonized Tariff Schedule (“HTS”). Although the HTS subheadings are provided for convenience and customs purposes, our written description of the scope of this proceeding is dispositive.

Determination

As a result of the determinations by the Department and the Commission that revocation of the antidumping duty order on EL FPDs would be likely to lead to continuation or recurrence of dumping and material injury to an industry in the United States, pursuant to section 751(d)(2) of the Act, the Department hereby orders the continuation of the antidumping duty order on EL FPDs from Japan. The Department will instruct the U.S. Customs Service to continue to collect antidumping duty deposits at the rates in effect at the time of entry for all imports of subject merchandise. The effective date of continuation of this order will be the date of publication in the Federal Register of this Notice of Continuation. Pursuant to section 751(c)(2) and 751 (c)(6)(A) of the Act, the Department intends to initiate the next five-year review of this orders not later than March 2005.

Dated: April 5, 2000.
Joseph A. Spetrini,
Acting Assistant Secretary for Import Administration.

[FR Doc. 00-8984 Filed 4-10-00; 8:45 am]

BILLING CODE 3510-DS-P